ENVIRONMENTAL PROTECTION AGENCY

[FRL-11559-01-OA]

Farm, Ranch, and Rural Communities Advisory Committee; Notice To Establish Animal Agriculture and Water Quality Subcommittee and Solicitation of Nominations for Membership to the Animal Agriculture and Water Quality Subcommittee

AGENCY: Environmental Protection Agency (EPA).

ACTION: Notice; request for nominations.

SUMMARY: The U.S. Environmental Protection Agency (EPA or Agency) invites nominations from a diverse range of qualified candidates to serve on a new subcommittee of the Farm, Ranch, and Rural Communities Advisory Committee (FRRCC), entitled the Animal Agriculture and Water Quality (AAWQ) subcommittee. The goal of the AAWQ subcommittee will be to provide recommendations that will inform the Agency's decisions regarding how to improve the implementation of the Clean Water Act (CWA) National Pollutant Discharge Elimination System (NPDES) Concentrated Animal Feeding Operation (CAFO) permitting program to more effectively reduce nutrients and other types of water pollutants from Animal Feeding Operations (AFOs), including determining whether any revisions to the regulations are warranted, and whether EPA can otherwise support the efforts of AFO operators to protect water quality.

DATES: To be considered for membership appointment to the AAWQ subcommittee, nominations should be submitted no later than January 2, 2024.

ADDRESSES: Nominations must be submitted electronically with the subject line “AAWQ Membership 2023” to AAWQ@epa.gov. General information regarding the AAWQ can be found on the EPA website at: https://www.epa.gov/faca/frrcc. General information about Federal Advisory Committees at EPA is available at: www.epa.gov/faca.

FOR FURTHER INFORMATION CONTACT:

Dr. Venus Welch-White, (202) 566-2369, Designated Federal Officer for both the FRRCC and AAQW at AAWQ@epa.gov. General information regarding the FRRCC can be found on the EPA website at https://www.epa.gov/faca/frrcc.

Dr. Venus Welch-White, Designated Federal Officer, AAWQ and Dr. Lauren Mosesso, Alternate Designated Federal Officer, AAWQ, can be reached at AAWQ@epa.gov.

SUPPLEMENTARY INFORMATION:

I. General Information

On August 15, 2023, EPA responded to two petitions sent by environmental and community groups requesting that EPA revise its Clean Water Act (CWA) regulations for the National Pollutant Discharge Elimination System (NPDES) Concentrated Animal Feeding Operation (CAFO) program. Instead of initiating rulemaking at this time, as the petitions requested, EPA decided to conduct a comprehensive evaluation of the CAFO program to consider the most effective and efficient ways to reduce pollutants generated from CAFOs. EPA will establish a Federal Advisory Committee (FAC) subcommittee, called the Animal Agriculture and Water Quality (AAWQ) subcommittee, under the existing Farm, Ranch, and Rural Communities Committee (FRRCC). After engaging with the AAWQ and reviewing their recommendations, EPA will consider whether to revise its regulations or whether the issues discussed in the petitions can be more effectively addressed through non-regulatory initiatives.

EPA is currently seeking nominations for members to serve on the AAWQ subcommittee, who will be appointed for an estimated term of 12 to 18 months. Balanced and diverse representation is being sought from the following stakeholders across the geographic regions of the United States:

• Agricultural industry

• Environmental, community, and public health groups

• Local governments

• Research institutions

• States and Tribes

The AAWQ expects to hold meetings approximately four times per year over the course of 12 to 18 months. The first subcommittee meeting is anticipated to be held in-person at or near EPA Headquarters in Washington, DC, in the spring of 2024. Subsequent meetings and/or listening sessions may be held in Washington, DC, other parts of the country, or virtually. In addition to the meetings, the minimum expected workload for members is approximately 5-10 hours per month, and potentially more depending on the responsibilities members choose to take on. Members will serve on the subcommittee in a voluntary capacity; however, EPA may provide reimbursement for travel expenses associated with official government business.

II. Eligibility To Serve on Subcommittee

Because of the nature of the issues to be discussed, it is the intent of the Agency for subcommittee members to have significant experience with (1) CAFO production area practices, (2) CAFO land application practices, and (3) effective means to limit pollution from CAFOs.

Topics that the AAWQ will discuss include, but are not limited to:

• Agricultural technology adoption and economics (e.g., digesters, treat and discharge systems, nutrient management technologies).

• CWA NPDES program.

• Day-to-day operations of CAFOs, especially concerning land application, management, or off-site transport of manure, litter, and process wastewater.

• Development and implementation of agricultural conservation practices and technologies.

• Public health and environmental impacts of CAFOs.

EPA is seeking nominees for the AAWQ subcommittee who have demonstrated experience with the operations of animal agriculture practices and/or the impacts of animal feeding operations on public health and/or water quality. Nominations are sought from, but not limited to, AFO/CAFO operators; agricultural economists; agricultural producers, growers, and ranchers; nongovernmental organizations studying agricultural, public health, and environmental impacts; community members who reside adjacent to or near AFO/CAFO operations; academic researchers and/or extension agents; state, local, and tribal governments; and wastewater utilities. The membership of the AAWQ subcommittee will include a balanced representation of interested persons representing the geographic diversity of the Unites States. Individuals will be generally appointed to serve on the AAWQ subcommittee as “Representative” members and are thus expected to represent the points of view of a particular group (e.g., a community, organization, or industry), rather than provide independent judgment and expertise. Other Federal agencies, and members of other sectors, as warranted, may be invited to attend, offer expertise, or provide presentations at committee meetings as non-members.

Nominees must be able to volunteer approximately 5-10 hours per month to the AAWQ subcommittee's activities, including participation in virtual workgroup meetings and preparation of text for the subcommittee's Final Report.

In accordance with Executive Order 14035 (June 25, 2021) and consistent with law, EPA values and welcomes opportunities to increase diversity, equity, inclusion, and accessibility on its Federal advisory committees. EPA's Federal advisory committees have a workforce that reflects the diversity of the American people.

III. Nominations To Serve on Subcommittee

Any interested person or organization may submit the names of qualified persons, including themselves. Nominations must be submitted electronically with the subject line “AAWQ Membership 2023” to AAWQ@epa.gov. To be considered, all nominations should include the information requested below:

• Current contact information for the nominee, including the nominee's name, organization (and position within that organization), business address, email address, and daytime telephone number(s).

• A brief statement describing the nominee's interest, relevant experience, and availability in serving on the AAWQ subcommittee, as well as: (1) The nominee's ability to serve as a “Representative” member and represent the point of view of a group (e.g., a community, organization, or industry) rather than provide independent judgment and expertise; and (2) whether the nominee has any prior/current service on Federal advisory committees, and, if so, the number of years.

• Résumé or curriculum vitae detailing the nominee's background, experience, and qualifications, and any other relevant materials.

Other sources, in addition to this Federal Register notice, may be utilized in the solicitation of nominees. EPA expressly values diversity, equity, and inclusion, and encourages the nominations of interested individuals from diverse backgrounds. Individuals may self-nominate.

Venus Welch-White,
Senior Advisor to EPA Senior Advisor for Agriculture, Office of the Administrator, U.S. EPA.

[FR Doc. 2023-25363 Filed 11-15-23; 8:45 am]

BILLING CODE 6560-50-P